DEPARTMENT OF HOUSING AND URBAN DEVELOPMENT

[Docket No. FR-4739-17]

Notice of Proposed Information Collection: Comment Request; Eligibility of a Nonprofit Corporation

AGENCY: Office of the Assistant Secretary for Housing-Federal Housing Commissioner, HUD.

ACTION: Notice.

SUMMARY: The proposed information collection requirement described below will be submitted to the Office of Management and Budget (OMB) for review, as required by the Paperwork Reduction Act. The Department is soliciting public comments on the subject proposal.

DATES: Comments due Date: August 16, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8003, Washington, DC 20410.

FOR FURTHER INFORMATION CONTACT: Michael McCullough, Director, Office of Multifamily Development, Department of Housing and Urban Development, 451 7th Street, SW., Washington, DC 20410, telephone (202) 708-1142 (this is not a toll-free number) for copies of the proposed forms and other available information.

SUPPLEMENTARY INFORMATION: The Department is submitting the proposed information collection to OMB for review, as required by the Paperwork Reduction act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those whoa re to respond; including the use of appropriate automated collection techniques or other forms of information technology, e.g., permitting electronic submission of responses.

This Notice also lists the following information:

Title of Proposal: Eligibility of a Nonprofit Corporation.

OMB Control Number, if applicable: 2502-0057.

Description of the need for the information and proposed use: This information collection is needed to enable HUD to determine the qualifications of a nonprofit to successfully sponsor a multifamily housing project. A nonprofit is defined as an entity organized for reasons other than financial gain. The information collected will also be used to determine the nonprofit's motive for sponsoring the project and identify any contractual relationship that exists between HUD and the nonprofit.

Agency Form numbers, if applicable: HUD-3433, HUD-3434, and HUD-3435.

Estimation of the total number of hours need to prepare the information collectionincluding the number of respondents, frequency of response, and hours of response: The estimated total number of annual hours needed to prepare the information collection is 90; the number of respondents is 270 generating 270 annual responses; the frequency of response is on occasion or once during the application periods; and the estimated time needed per response varies from 15 minutes to 45 minutes.

Status of the proposed information collection: Extension of currently approved collection.

Authority: The Paperwork Reduction Act of 1995, 44 U.S.C. Chapter 35, as amended.

Dated: June 7, 2002.
John C. Weicher,
Assistant Secretary for Housing—Federal Housing Commissioner.

[FR Doc. 02-15120 Filed 6-14-02; 8:45 am]

BILLING CODE 4210-27-M